DEPARTMENT OF COMMERCE

National Institute of Standards and Technology

Open Meeting of the Commission on Enhancing National Cybersecurity

AGENCY: National Institute of Standards and Technology, Commerce.

ACTION: Notice.

SUMMARY: The Commission on Enhancing National Cybersecurity will meet Thursday, April 14, 2016, from 1 p.m. until 4 p.m. Eastern Time. The primary purpose of the meeting is to discuss the goals and outcomes of the Commission's work with an emphasis on topics for the Commission to review as it develops detailed recommendations to strengthen cybersecurity in both the public and private sectors while protecting privacy, ensuring public safety and economic and national security, fostering discovery and development of new technical solutions, and bolstering partnerships between Federal, State, local, tribal and territorial governments and the private sector in the development, promotion, and use of cybersecurity technologies, policies, and best practices. All sessions will be open to the public.

DATES: The meeting will be held on Thursday, April 14, 2016, from 1 p.m. until 4 p.m. Eastern Time.

ADDRESSES: The meeting will be held at the U.S. Department of Commerce, Herbert C. Hoover Building, U.S. Commerce Research Library Reading Room, Room 1894, located on the first floor at 15th Street and Pennsylvania Avenue NW., Washington, DC. The meeting is open to the public and interested parties are requested to contact Kevin Stine in advance of the meeting for building entrance requirements.

FOR FURTHER INFORMATION CONTACT: Kevin Stine, Information Technology Laboratory, National Institute of Standards and Technology, 100 Bureau Drive, Stop 2000, Gaithersburg, MD 20899-8900, telephone: (301) 975-4483, or by email at: kevin.stine@nist.gov.

SUPPLEMENTARY INFORMATION: Pursuant to the Federal Advisory Committee Act, as amended, 5 U.S.C. App., notice is hereby given that the Commission on Enhancing National Cybersecurity (“the Commission”) will meet Thursday, April 14, 2016, from 1 p.m. until 4 p.m. Eastern Time. All sessions will be open to the public. The Commission is authorized by Executive Order 13718, Commission on Enhancing National Cybersecurity.¹ The Commission was established by the President and will make detailed recommendations to strengthen cybersecurity in both the public and private sectors while protecting privacy, ensuring public safety and economic and national security, fostering discovery and development of new technical solutions, and bolstering partnerships between Federal, state, local, tribal and territorial governments and the private sector in the development, promotion, and use of cybersecurity technologies, policies, and best practices.

¹ https://www.federalregister.gov/articles/2016/02/12/2016-03038/commission-on-enhancing-national-cybersecurity.

The agenda is expected to include the following items:

— Introductions

— Review Executive Order and Commission Charter

— Discuss proposed scope of work

— Discuss work plan for addressing scope of work

— Informational briefings

— Commission timeline

— Public comment

— Closure

Note that agenda items may change without notice. The final agenda will be posted on http://www.csrc.nist.gov. Seating will be available for the public and media. No registration is required to attend this meeting.

Public Participation: The Commission agenda will include a period of time, not to exceed fifteen minutes, for oral comments from the public on Thursday, April 14, 2016 (between 3:45 p.m. and 4 p.m.). Speakers will be selected on a first-come, first-served basis. Each speaker will be limited to five minutes. Questions from the public will not be considered during this period. Members of the public who are interested in speaking are requested to contact Kevin Stine at the contact information indicated in the FOR FURTHER INFORMATION CONTACT section of this notice.

Speakers who wish to expand upon their oral statements, those who had wished to speak but could not be accommodated on the agenda, and those who were unable to attend in person are invited to submit written statements. In addition, written statements are invited and may be submitted to the Commission at any time. All written statements should be directed to the Commission Executive Director, Information Technology Laboratory, 100 Bureau Drive, Stop 8900, National Institute of Standards and Technology, Gaithersburg, MD 20899-8900. Pursuant to 41 CFR 102-3.150(b), this Federal Register notice for this meeting is being published fewer than 15 calendar days prior to the meeting as exceptional circumstances exist. It is imperative that the meeting be held on April 14, 2016 to accommodate the scheduling priorities of the key participants, who must begin work as soon as possible in order to complete the Commission's report by December 1, 2016, as required by Executive Order 13718 section 3(e) (February 9, 2016). Notice of the meeting is also posted on the National Institute of Standards and Technology's Web site at www.csrc.nist.gov.

Kevin Kimball,
Chief of Staff.

[FR Doc. 2016-07954 Filed 4-6-16; 8:45 am]

BILLING CODE 3510-13-P